DEPARTMENT OF TRANSPORTATION

Federal Motor Carrier Safety Administration

[Docket No. FMCSA-2004-18898]

Comprehensive Safety Analysis 2010 Initiative

AGENCY: Federal Motor Carrier Safety Administration, DOT.

ACTION: Notice of public listening session.

SUMMARY: The Federal Motor Carrier Safety Administration (FMCSA) announces a public listening session to obtain feedback from interested parties on the Agency's Comprehensive Safety Analysis 2010 (CSA 2010) initiative, a comprehensive review, analysis, and restructuring of FMCSA's current safety fitness determination process and enforcement programs. FMCSA will use the listening session to brief participants on the direction and progress of CSA 2010 and obtain feedback from its partners and stakeholders. FMCSA also requests comments on the CSA 2010 operational model described in this notice.

DATES: The Public Listening Session will be held on October 16, 2008, from 8 a.m. to 2:45 p.m. Participant registration will be from 8 a.m. to 9 a.m. Written comments must be received by January 31, 2009.

ADDRESSES: The Public Listening Session will be held at the Key Bridge Marriott, 1401 Lee Highway, Arlington, VA 22209. You may submit comments identified by FDMS Docket ID Number FMCSA-2004-18898 and by any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.).

You may review the DOT's complete Privacy Act Statement in the Federal Register published on April 11, 2000 (65 FR 19476). This information is also available at http://Docketinfo.dot.gov.

FOR FURTHER INFORMATION CONTACT: Cathy McNair, Program Manager Assistant, CSA 2010, (202) 366-0790.

SUPPLEMENTARY INFORMATION: Format of Listening Session: During the Public Listening Session, FMCSA will describe its progress on CSA 2010 to date and address specific aspects of the CSA 2010 operational model. FMCSA will accept comments on the CSA 2010 operational model and any additional information that commenters believe FMCSA should consider for the success of the CSA 2010 initiative. The session will include a one and one-half hour morning plenary session (9 a.m.), and two facilitated breakout sessions. Each breakout session will be run two consecutive times so that all attendees will have the opportunity to participate in both sessions. Each session will run for one and one-half hours, beginning at 11 am and 1:15 pm.

The plenary and breakout sessions listed below will address specific aspects of the CSA 2010 initiative. Later sections of this notice provide supporting information for each of these areas.

(1) Plenary Session—Overview of CSA 2010 and the Operational Model Test

(2) Breakout Session—Safety Measurement System (SMS) and Safety Fitness Determination (SFD)

(3) Breakout Session—Safety Data Quality

The agenda for the listening session is as follows:

Morning

8-9 Registration

9-10:45 Welcome and Agenda Overview/CSA 2010 Overview and Operational Model Test Panelist Q & A (Plenary Session)

10:45-11 Break

11-12:30 Breakout 1 (Participants attend SMS/SFD or Data Quality session)

Afternoon

12:30-1:15 Lunch

1:15-2:45 Breakout 2 (Participants attend SMS/SFD or Data Quality session)

Registration information and instructions: To attend the listening session, attendees can register online at http://www.fmcsa.dot.gov/csa2010-register. In addition to registration information, the registration Web site provides additional details about the agenda. If there are any questions, or if an attendee prefers to register via telephone, please contact the registration help desk at 206-284-7850.

Background

In August 2004, FMCSA embarked on CSA 2010—a comprehensive review and analysis of the FMCSA motor vehicle safety compliance and enforcement programs (69 FR 51748, August 20, 2004). The goal of CSA 2010 is to increase the efficiency and effectiveness of FMCSA's compliance and enforcement program with the ultimate goal of achieving a significant reduction in large truck and bus crashes, injuries, and fatalities. Under the CSA 2010 initiative, FMCSA is developing and deploying a new approach to using agency resources to identify drivers and motor carriers that pose safety risks based on their crash experience and violations of safety regulations and to intervene to reduce those risks as soon as they become apparent. FMCSA understands how important it is to obtain feedback on this approach from partners, stakeholders, and other interested parties.

The Agency held the first series of public listening sessions on CSA 2010 in September and October of 2004. These sessions were designed to collect public input regarding ways FMCSA could improve its process of monitoring and assessing the safety performance of the motor carrier industry. The majority of participants supported the Agency's goal of improving the current safety fitness determination process through the CSA 2010 initiative. For further information on the public listening sessions held in 2004, visit the FMCSA Web site at http://www.fmcsa.dot.gov/ (click on the CSA2010 link) and see the final report, “Comprehensive Safety Analysis Listening Sessions.”

On November 16, 2006, FMCSA held another listening session to gather information and feedback on CSA 2010 (71 FR 61131, October 17, 2006). The session was held in Washington, DC, with close to 100 attendees that included a cross-section of Federal, State, and local government agencies, motor carriers, industry associations, insurance and consulting firms, and safety advocacy groups. The event focused on four major aspects of CSA 2010: (1) Measurement; (2) Safety Fitness Determination; (3) Intervention Selection and Entity Characteristics; and (4) Safety Data and Tracking, Evaluation and Data Validation. Participants provided valuable information on these topics, which FMCSA has taken into account during its continued development of the CSA 2010 operational model. For further information on the public listening session held in 2006, visit FDMS Docket Identification Number FMCSA-2004-18898 at http://www.regulations.gov and see the final report, “Comprehensive Safety Analysis 2010, 2006 Listening Session.”

On December 4, 2007, FMCSA held a listening session to brief stakeholders and partners on the progress that had been made since 2006 (72 FR 62293, November 2, 2007). FMCSA provided detailed information in three breakout sessions on specific aspects of the CSA 2010 initiative: (1) Safety Measurement System; (2) Safety Fitness Determination (SFD); and (3) Operational Model Test. Participants in the 2007 listening session focused their comments and questions most frequently on issues relating to the CSA 2010 intervention process, concerns about the quality of safety data, and the proposed SFD methodology. For further information on the public listening session held in 2007, visit FDMS Docket Identification Number FMCSA-2004-18898 at http://www.regulations.gov and see the final report, “Comprehensive Safety Analysis 2010, 2007 Public Listening Session.”

The purpose of the October 2008 listening session is for FMCSA to brief stakeholders, partners, and other interested parties on the progress that has been made since the listening session in December 2007. FMCSA plans to hold additional listening sessions to continue the process of updating the public and to receive feedback.

Current Operational Model and Its Limitations

FMCSA's current operational model employs SafeStat to analyze the safety status of individual motor carriers and to prioritize them for a compliance review (CR). SafeStat uses data from a variety of State and Federal sources to measure the relative safety of motor carriers in four Safety Evaluation Areas (SEAs): Accident, Driver, Vehicle, and Safety Management. (For a full description of the SafeStat methodology, visit the FMCSA Web site at: http://ai.fmcsa.dot.gov.) A CR is an on-site examination of a carrier's operations, such as drivers' hours of service, to determine whether the carrier meets the safety fitness standard found at 49 CFR 385.5. Currently, a CR can result in one of three safety ratings: Satisfactory, Conditional, or Unsatisfactory.

The current FMCSA enforcement intervention is very labor-intensive, allowing the Agency and its State partners to assess the safety performance of only a small fraction of the motor carrier industry. Because each CR may take one safety investigator an average of 3 to 4 days to complete, depending on the location and size of the carrier, FMCSA can perform CRs at present staffing levels on only a small portion of the approximately 700,000 interstate carriers listed in the agency's census. Further compounding this limitation is the fact that the full CR is generally deployed at a carrier's place of business as a one-size-fits-all tool to address what may not be a comprehensive safety problem. Although FMCSA's current approach has contributed to a reduction in the rate of large truck and bus fatalities, the factors described above will make it increasingly challenging to sustain and further these improvements to large truck and bus safety over the coming years.

For these reasons, along with improvements in the quality of data available to FMCSA and improved ways to measure the safety of motor carriers, FMCSA is exploring ways through CSA 2010 to improve its current process for monitoring, assessing, and enforcing the safety performance of motor carriers and drivers.

Comprehensive Safety Analysis 2010

CSA 2010 is a major FMCSA initiative to improve the effectiveness of the Agency's compliance and enforcement programs. CSA 2010 will help the Agency assess the safety performance of a greater segment of the motor carrier industry and intervene with more carriers to change unsafe behavior earlier. The ultimate goal is to achieve a significant reduction in large truck and bus crashes, injuries, and fatalities, while making efficient use of the resources of FMCSA and its State partners. In contrast to the Agency's current operational model, CSA 2010 is characterized by (1) a more comprehensive safety measurement system; (2) a broader array of progressive interventions; (3) a safety fitness determination (SFD) methodology that is based on performance data and not necessarily tied to an on-site compliance review; and (4) supporting information technology systems that will help FMCSA and its State partners implement and continuously evaluate each of these elements. To date, FMCSA has made significant progress in its development of the CSA 2010 operational model, launching a field test in February 2008.

Safety Measurement System

The role of the Safety Measurement System (SMS) within the CSA 2010 operational model is to monitor and quantify the safety performance of commercial motor carriers and drivers through data available in the Motor Carrier Management Information System (MCMIS), FMCSA's database for carrier census information, roadside inspection data, crash data, etc. Under CSA 2010, these data would include violations found during roadside inspections, traffic enforcement, and the intervention process (discussed below) as well as violations associated with crashes. SMS would group these data into seven Behavioral Analysis Safety Improvement Categories (BASICs), each of which includes regulatory requirements for both motor carriers and drivers: Unsafe Driving, Fatigued Driving, Driver Fitness, Controlled Substances and Alcohol, Vehicle Maintenance, Improper Loading/Cargo Securement, and Crash History. FMCSA developed the BASICs under the premise that commercial motor vehicle (CMV) crashes can ultimately be traced to the behavior of motor carriers and drivers. There are six important ways that the SMS is different than the Agency's current measurement system, SafeStat:

1. SMS is organized by specific behaviors (BASICs) while SafeStat is organized into four broad SEAs.

2. SMS identifies safety risks in the same structure in which CSA 2010 addresses those risks, while SafeStat prioritizes carriers for a one-size-fits-all compliance review.

3. SMS uses all safety-based inspection violations while SafeStat uses only out-of-service violations and selected moving violations.

4. SMS uses risk-based violation weightings while SafeStat does not.

5. SMS impacts the safety fitness determination of an entity, while SafeStat has no impact on an entity's safety rating.

6. SMS assesses individual drivers and carriers, while SafeStat assesses only carriers.

The SMS methodology is described in more detail in the sections below headed “Safety Measurement System” and “Safety Fitness Determination.”

Interventions

The use of targeted interventions to improve unsafe behavior is a cornerstone of the CSA 2010 operational model. Interventions are actions taken by FMCSA or its State partners to address safety deficiencies that cause an entity to receive an unfavorable score in the SMS. Currently, FMCSA relies on the CR, a one-size-fits-all comprehensive audit of regulatory compliance, to determine enforcement actions and assess safety fitness. In contrast, CSA 2010 interventions respond to specific safety risks and are designed to be progressive. The goal is to reach a larger segment of the industry and to change unsafe behavior early on.

The interventions developed for implementation in CSA 2010 can be grouped into one of two categories:

Investigative interventions are an attempt to find the causal factors of a safety performance issue that is identified by the measurement system.¹ FMCSA believes that such identification will, in many cases, help motor carriers and drivers to apply the most effective corrective actions. These interventions include targeted roadside inspections, offsite investigations, and on-site investigations (focused and comprehensive).

Corrective interventions are aimed at encouraging a change in safety behavior by correcting causal factors identified by investigative interventions with actions that range from educational to punitive. These interventions include Warning Letters, Cooperative Safety Plans, Notices of Violation, Notices of Claim, and Settlement Agreements. Under FMCSA's planned SFD process, corrective interventions could result in FMCSA determining a carrier unfit through the safety fitness determination process.

¹ Although FMCSA believes that identifying causal factors through redesigned investigations will prove beneficial to safety, the Agency recognizes that it is ultimately the responsibility of motor carriers and drivers to know, understand, and comply with all applicable Federal safety regulations.

Safety Fitness Determination

Under 49 U.S.C. 31144, FMCSA is required to “maintain by regulation a procedure for determining the safety fitness of an owner or operator.” Under the Agency's current operational model, FMCSA uses the CR process to determine motor carrier safety fitness and issue safety ratings, which can be Satisfactory, Conditional, or Unsatisfactory and are defined under 49 CFR part 385.

The development of an alternative SFD methodology is guided by concerns about FMCSA's current SFD process both from within and outside the Agency. In particular, National Transportation Safety Board (NTSB) recommendation H-99-06 urges FMCSA to “Change the safety fitness rating methodology so that adverse vehicle and driver performance-based data alone are sufficient to result in an overall unsatisfactory rating for the carrier.”

In response to these concerns, FMCSA is developing an SFD methodology that would (1) allow it to assess the safety performance of a larger segment of the motor carrier industry; (2) not be tied to an onsite compliance review; and (3) take into account virtually all FMCSA safety regulations. This methodology is described in more detail in the sections below headed “Safety Measurement System” and “Safety Fitness Determination.”

Information Technology Systems

Information technology (IT) systems is the fourth major component of CSA 2010. New information resources and modified, existing information systems have been made available to FMCSA, State partners, and operational model test carriers to track and update the safety performance data from regulated entities as they are received, link relevant data to the correct entity, validate the data, and provide the mechanisms for correcting data. These systems will also allow FMCSA to provide important data to a third-party evaluator who will render an opinion of the relative effectiveness and efficiency of the CSA 2010 processes relative to existing processes.

COMPASS is the Agency's major IT modernization initiative. CSA 2010 is coordinating closely with the COMPASS program so that the timelines of both programs are synchronized as much as possible. CSA 2010 full deployment will rely on modernized, flexible IT systems that COMPASS provides.

Current CSA 2010 Priorities

Operational Model Test

In February 2008, FMCSA began testing the new CSA 2010 operational model. The purpose of the operational model test is to determine both the feasibility and effectiveness of the new CSA 2010 interventions and SMS. The test is scheduled to run in two Phases for 30 months into mid-2010, at which time FMCSA is targeting full CSA 2010 implementation. The 30-month timeframe is designed to provide sufficient data for statistical purposes to support third-party evaluation of the operational model test results.

During the operational model test, FMCSA is not providing any regulatory relief. Motor carriers are not rated under the CSA 2010 SFD methodology, because that methodology must yet be implemented through rulemaking. Instead, a motor carrier with poor safety performance, and found to be unresponsive to the new CSA 2010 interventions, undergoes a CR and is rated in accordance with the Agency's current compliance and enforcement process, and is subject to fines, penalties, and other actions to bring about compliance.

The test is taking place in four States: Colorado, Georgia, Missouri, and New Jersey, which provides one test State for each of the four FMCSA Service Centers. FMCSA randomly divided motor carriers domiciled in the test States into two equal sized groups: A test group and a control group.

The test group carriers receive CSA 2010 interventions based on information provided by the SMS. The control group is addressed through the Agency's current operational model, which involves the use of SafeStat to identify motor carriers for compliance reviews and any required enforcement actions. Again, motor carriers in the test group with poor safety performance, and found to be unresponsive to the new CSA 2010 interventions, undergo a compliance review and are rated in accordance with the Agency's current compliance and enforcement process.

Phase I: In January 2008, FMCSA trained approximately 26 Federal and State investigators to carry out the new CSA 2010 interventions on the test group carriers during the operational model test. In February 2008, the Agency initiated the first phase of the operational model test: This startup phase included only three BASICs: Unsafe Driving, Fatigued Driving, and Vehicle Maintenance.

Phase II: Phase two of the operational model test is scheduled to begin in late-September, at which point the remaining BASICs will be added: Driver Fitness, Controlled Substances and Alcohol, Improper Loading/Cargo Securement, and Crash History. As the test progresses into phase two, FMCSA intends to add currently excluded SafeStat category A/B motor carriers to the test. Including A/B carriers will help demonstrate the effectiveness of the new interventions on the group of carriers that FMCSA traditionally targets.

Implementation: As the test progresses and more data are gathered, the Agency anticipates being able to make ongoing quantitative and qualitative evaluations of the effectiveness of CSA 2010, which will guide broader implementation.

Safety Measurement System

Implementation of CSA 2010 will rely on accurate, objective measurement of the safety performance of individual motor carriers and drivers. The CSA 2010 SMS is designed to monitor and quantify the performance of motor carriers and drivers through data available in the Motor Carrier Management Information System (MCMIS). Under CSA 2010, the data would include violations found during roadside inspections, traffic enforcement, and the intervention process (discussed below) as well as violations associated with crashes.

As mentioned above, the SMS is organized into seven BASICs, each of which includes regulatory requirements for both motor carriers and drivers. These categories are derived from the existing FMCSA regulatory structure, the Large Truck Crash Causation Study, and other analyses and studies conducted by the Agency:

Unsafe Driving. Operation of a CMV in a dangerous or careless manner. Examples of violations are speeding, reckless driving, improper lane change, and inattention.

Fatigued Driving. Operation of a CMV by a driver who is in noncompliance with hours-of-service regulations. This BASIC includes violations of driving and on-duty time limits as well as failure to maintain complete, accurate logbooks.

Driver Fitness. Operation of a CMV by a driver who is unfit due to lack of training or required qualifications. Examples of violations include failure to have a valid, appropriate commercial driver's license or being medically unqualified to operate a CMV.

Controlled Substances and Alcohol. Operation of a CMV by a driver who is in possession of alcohol or illegal drugs or is impaired due to alcohol, illegal drugs, or misuse of prescription or over-the-counter medications. Examples of violations include use or possession of controlled substances or alcohol.

Vehicle Maintenance. CMV failure due to improper or inadequate maintenance. Examples of violations include faulty brakes or lights and other mechanical defects as well as failure to make required repairs.

Improper Loading/Cargo Securement. CMV incidents resulting from shifting loads, spilled or dropped cargo, and unsafe handling of hazardous materials. Examples of violations include improper load securement, cargo retention, and unsafe handling of hazardous materials.

Crash History. A history or pattern of crash involvement, including frequency and severity, based on information from State-reported crashes.

The SMS measures the performance of an entity (motor carrier or driver) in each BASIC, employing a four-step process: (1) Relevant inspection, violation, and crash data from MCMIS are attributed to an entity to create a safety-event history; (2) the entity's violations and crashes are classified into BASICs; (3) time- and severity-weighting, normalization, peer-grouping, and data-sufficiency criteria are applied to the data to form a quantifiable measure for the entity in each BASIC; and (4) on the basis of comparison of the entity's BASIC measure with those of its peers, a rank and percentile are assigned. A carrier's score in each BASIC is based on data from the past 24 months.

FMCSA is designing one SMS consisting of the Carrier Safety Measurement System (CSMS) for carriers, and the Driver Safety Measurement System (DSMS) for drivers. The Agency is implementing both systems in their prototype stages to support the CSA 2010 operational model test.

During the CSA 2010 operational model test, FMCSA is using SMS results to identify and monitor entities with safety problems for inclusion in the intervention process. Ultimately, in cases where measurement results indicate a strong crash risk to the public, FMCSA will apply those results, along with other factors, to the determination of a carrier's safety fitness.

Safety Fitness Determination

In the November 2, 2007 Federal Register notice announcing last year's listening session, FMCSA laid out a preliminary SFD methodology (72 FR 62298—62299, November 2, 2007). This methodology is designed to meet the intent of the NTSB recommendation H-99-06 in the context of the new BASICs, while acknowledging the latest research that indicates that driver behavior is a major contributing factor in causing crashes.

The methodology is based strongly on performance data, and does not require a comprehensive on-site review for a safety fitness determination, which would be issued regularly on all carriers for which the Agency has sufficient data. As shown in Table 1, under this methodology there would be three major factors that could impact a motor carrier's safety fitness determination: (1) Roadside inspection and crash data; (2) violations in the areas of essential motor carrier safety management found during the intervention process (see Table 2); and (3) 15 violations which FMCSA believes are so fundamental to ensuring safety that no motor carrier should be allowed to operate if any of these violations are found and not immediately corrected (see Table 3). As shown in Table 1, data obtained under factors (1) and (2) would align with the seven BASICs in the CSA 2010 SMS.

Overall, the response to this proposed methodology was favorable from stakeholders attending the December 2007 listening session. In June 2008, after considering the potential safety benefits and operational feasibility, FMCSA's Motor Carrier Safety Advisory Committee recommended that the agency continue to work on CSA 2010 to address the NTSB's recommendation rather than making amendments to the cucrrent SFD to address the NTSB concerns prior to the implementation of CSA 2010. Accordingly, FMCSA is proceeding with the development of a notice of proposed rulemaking (NPRM) to address safety fitness determination under CSA 2010. The developmental basis for the rulemaking is the preliminary safety fitness methodology referenced above and summarized in Table 1. FMCSA is targeting publication of the NPRM in 2008.

Table 1—Proposed Preliminary CSA 2010 Safety Fitness Determination Methodology
Stand alone BASICs: Unsafe driving, fatigued driving | Non-stand alone BASICs: Driver fitness, drug/alcohol,cargo securement, vehicle maintenance, verifiable crash rate | Fifteen fundamental violations | Safety fitness determination
Number of BAS ICs: (1) With SMS measure above Unfit threshold, or (2) Where essential safety management violations are 10 percent or more of records checked | Number of BASICs: (1) With SMS measure or verifiable crash rate above Unfit threshold, or (2) Where essential safety management violations are 10 percent or more of records checked | See Table 3 below | Continue Operation, Marginal Unfit.
1 |  |  | Unfit.
0 | Greater Than 1 |  | Unfit.
0 | 0 | 1 | Unfit.
0 | 1 | 0 | Marginal.
0 | 0 | 0 | Continue Operation.

The methodology in Table 1 makes a distinction between “stand alone” and “non-stand alone” BASICs. For the “stand alone” BASICs a failure in only one of them would result in a proposed Unfit status, whereas for the “non-stand alone” BASICs a failure in more than one of them would be required for the proposed Unfit status. The rationale for this distinction is that, although each of the BASICs applies to both carriers and drivers, the “stand alone” BASICs are more directly related to driver behavior. Recent research indicates that driver behavior is a major contributing factor in causing crashes. In particular, an effectiveness study on the SMS, “Incorporating the Carrier Safety Measurement System Results into the Proposed Safety Fitness Determination Process,” November 2007, FMCSA and John Volpe National Transportation Systems Center, has shown that carriers with past poor performance in the Unsafe Driving or Fatigue Driving BASICs were subsequently involved in crashes at a considerably higher rate than the overall crash rate of the motor carrier population.

Safety Data Quality

Both the SMS and SFD methodologies depend on high quality roadside inspection and crash data to be collected and attributed to motor carriers' safety performance records. Because of this reliance on high quality data, FMCSA would like to share some details of its ongoing safety data quality improvement efforts.

Through the State partnership in the Motor Carrier Safety Assistance Program (MCSAP), FMCSA shares a safety goal with the States to reduce the number and severity of crashes involving large trucks and buses on our Nation's highways. To meet this common goal, inspection and crash data that are collected and reported to FMCSA must meet high standards of uniformity, completeness, accuracy and timeliness. The FMCSA has made significant strides to improve the data quality of crash and inspection data by the development of a comprehensive program that includes: Raising the awareness of the these standards, developing a means to measure State safety data quality, and working directly with States through either a State on-site review process or direct technical assistance to improve the quality of State safety data.

This comprehensive data quality program supports the Department of Transportation (DOT) data quality guidelines and addresses specific recommendations put forth in the DOT Inspector General's report, “Improvements Needed in the Motor Carrier Safety Status Measurement System” (SafeStat) report, February 2004, available at the following url: http://www.oig.dot.gov/StreamFile?file=/data/pdfdocs/mh2004034.pdf.

High quality data are the underpinning of effective safety programs at the State and Federal levels, including CSA 2010. The data quality programs include the following key areas that promote improvements to data quality:

• DataQs is an online system accessible on the Analysis and Information (A&I) Online http://ai.fmcsa.dot.gov Web site that was developed to facilitate data challenges by motor carriers and to track corrective actions.

• The State Safety Data Quality Map (SSDQ) is an evaluation tool for State-reported crash and inspection data that is released to the public on a quarterly basis on the A&I Online Web site. This evaluation measures States on the completeness, timeliness, accuracy, and consistency of State-reported crash and inspection data in FMCSA's Motor Carrier Management Information System (MCMIS).

• Monthly monitoring provides information accessible to States and Federal personnel on the completeness, timeliness, accuracy, and consistency of State-reported crash and inspection data. This reporting summarizes the evaluation results and tracks the States' progress on a monthly basis.

• On-site and off-site reviews of State-reported crash and inspection data provide support to States to identify areas for potential process improvement and provide the technical assistance to implement recommendations.

• Crash data collection training provides State-specific crash investigation training on the crash data needed by FMCSA.

• Additionally, FMCSA provides technical and analytical assistance to States to help them use good quality safety data and analysis in developing their Commercial Vehicle Safety Plans (CVSPs).

The quality of data submitted by States has shown marked improvement since the inception of the program. The federal oversight agency, Government Accountability Office (GAO), has taken notice as FMCSA has made efforts to improve the quality of CMV data. In 2005, GAO found that, while challenges remain, FMCSA's efforts have contributed to CMV data quality improvements. In particular, they reported that FMCSA's Safety Data Quality Improvement Program (SaDIP) supported state efforts to improve data quality. GAO concluded in that report, “* * * FMCSA's collaborative efforts with states have had a positive impact on improving the quality of states' crash data, therefore ultimately enhancing the ability of both federal and state governments to make highway planning and safety enforcement decisions (GAO-06-102, Highway Safety: Further Opportunities Exist to Improve Data on Crashes Involving Commercial Motor Vehicles, p. 30). In 2007, GAO reported that FMCSA “* * * acted to improve the quality of SafeStat data by completing a comprehensive plan for data quality improvement, implementing an approach to correct inaccurate data, and providing grants to states for improving data quality, among other things” (GAO-07-585, Identifying High Risk Motor Carriers, p. 5).

The FMCSA is committed to evaluating States' data, developing improvement tools for States, and assisting individual States as they work toward improving their data collection processes. This approach will result in an effective and comprehensive approach to improving the quality of State safety data.

Comments Requested

FMCSA requests comments from all interested parties on the CSA 2010 program elements described in this notice. FMCSA is particularly interested in comments related to the Safety Measurement System, interventions, preliminary safety fitness determination methodology, and operational model test. Commenters are requested to provide supporting data and rationale wherever possible.

Table 2—Areas of Essential Motor Carrier Safety Management
1. Scheduling a run which would necessitate the vehicle being operated at speeds in excess of those prescribed (§ 392.6).
2. Operating a motor vehicle not in accordance with the laws, ordinances, and regulations of the jurisdiction in which it is being operated (§ 392.2)(Safety related violations only).
3. No operating authority (392.9a(a).
4. False reports of records of duty status (§ 395.8(e)).
5. Requiring or permitting driver to drive more than 11 hours (§ 395.3(a)(1)).
6. Requiring or permitting passenger CMV driver to drive more than 10 hours (§ 395.5(a)(1)).
7. Requiring or permitting driver to drive after 14 hours on duty (§ 395.3(a)(2)).
8. Requiring or permitting passenger CMV driver to drive after 15 hours on duty (§ 395.5(a)(2)).
9. Requiring or permitting driver to drive after 60 hours on duty in 7 days (§ 395.3(b)(1)).
10. Requiring or permitting driver to drive after 70 hours on duty in 8 days (§ 395.3(b)(2)).
11. Requiring or permitting passenger CMV driver to drive after 60 hours on duty in 7 days (§ 395.5(b)(1)).
12. Requiring or permitting passenger CMV driver to drive after 70 hours on duty in 8 days (§ 395.5(b)(2)).
13. Requiring or permitting short-haul property CMV driver to drive after 16 hours on duty (§ 395.1(o)).
14. No records of duty status (§ 395.8(a)).
15. Failing to submit record of duty status within 13 days (§ 395.8(i)).
16. Failing to preserve records of duty status for 6 months (§ 395.8(k)).
17. Failing to preserve supporting documents (§ 395.8(k)).
18. Fraudulent or intentional alteration of a supporting document (§ 395.8(k)).
19. Requiring or permitting driver to drive after 70 hours in 7 days (Alaska)(§ 395.1(h)(1)(iii)).
20. Requiring or permitting driver to drive after 80 hours on duty in 8 days (Alaska)(395.1(h)(1)(iv)).
21. Requiring or permitting driver to drive more than 15 hours (Alaska)(§ 395.1(h)(1)(i)).
22. Requiring or permitting driver to drive after being on duty 20 hours (Alaska)(§ 395.1(h)(1)(ii)).
23. Requiring or permitting passenger CMV driver to drive more than 15 hours (Alaska) (§ 395.1(h)(2)(i)).
24. Requiring or permitting passenger CMV driver to drive after 20 hours on duty (Alaska)(§ 395.1(h)(2)(ii)).
25. Requiring or permitting passenger CMV driver to drive after 80 hours on duty in 8 days (Alaska)(§ 395.1(h)(2)(iv)).
26. Requiring or permitting passenger CMV driver to drive after 70 hours on duty in 7 days (Alaska)(395.1(h)(2)(iii)).
27. Failing to investigate driver's background (§ 391.23(a)).
28. Failing to maintain driver qualification file on each driver employed (§ 391.51(a))(Use current guidance of no element of DQ file requirements found).
29. Operating a CMV without a valid CDL (§ 383.23(a))(Safety related loss only).
30. Failing to train hazardous material employees as required (§ 172.704(a) & § 177.800(c)).
31. Using a driver not medically re-examined each 24 months (§ 391.45(b)(1)).
32. Using a driver not medically examined and certified (§ 391.45(a)).
33. Using a driver before receiving a negative pre-employment result (§ 382.301(a)).
34. Failing to perform random alcohol tests at the applicable rate (§ 382.305(b)(1)).
35. Failing to perform random controlled substance tests at the applicable rate (§ 382.305(b)(2)).
36. Using a driver without a return to duty test (§ 382.309).
37. Failing to keep minimum records of inspection and maintenance (§ 396.3(b)).
38. Requiring or permitting a driver to drive without the vehicle's cargo being properly distributed and adequately secured (§ 392.9(a)(1)).
39. Transporting a HM without preparing a shipping paper (§ 172.200(a) & § 177.817(a))(no shipping paper at all).
40. Transporting HM in a package with an identifiable release of HM (§ 173.24).
41. Loading a cargo tank with an HM which exceeds the maximum weight of lading marked on the specification plate (§ 173.24b(d)(2)).
42. Loading HM not in accordance with the separation and segregation table (§ 173.30/177.848(d)).
43. Transporting HM in an unauthorized cargo tank (§ 173.33(a)).
44. Transporting or loading two or more materials in a cargo tank motor vehicle which resulted in an unsafe condition (§ 173.33(a)(2)).
45. Transporting a hazardous material in a cargo tank motor vehicle which has a dangerous reaction when in contact with the tank (§ 173.33(b)(1)).
46. Transporting an unacceptable HM shipment (§ 177.801).
47. Failing to attend a cargo tank during loading/unloading (§ 177.834(i)).
48. Offering a cargo tank which has not successfully completed a test or inspection which has become due (§ 180.407(a)).
49. Failing to test and inspect a cargo tank which has been in an accident and has been damaged (§ 180.407(b)(2)).
50. Failing to conduct a pressure test on a cargo tank which has been out of HM service for one year or more (§ 180.407(b)(3)).
51. Failing to test and inspect a cargo tank which has been modified (§ 180.407(b)(4)).
52. Failing to conduct a test or inspection on a cargo tank when required by DOT (§ 180.407(b)(5)).
53. Failing to periodically test and inspect a cargo tank (§ 180.407(c)).

Table 3—Fundamental Violations
1. Failing to implement an alcohol and/or controlled substance testing program (§ 382.115(a) or (b)).
2. Using a driver who has refused to submit to an alcohol or controlled substances test required under part 382 (§ 382.211).
3. Using a driver known to have tested positive for a controlled substance (§ 382.215).
4. Knowingly allowing, requiring, permitting, or authorizing an employee with a commercial driver's license which is suspended, revoked, or canceled by a State or who is disqualified to operate a commercial motor vehicle as defined in Part 383 (§ 383.37(a)).
5. Knowingly allowing, requiring, permitting, or authorizing a driver who is disqualified to drive a commercial motor vehicle (§ 383.51(a)).
6. Operating a motor vehicle transporting property without having in effect the required minimum levels of financial responsibility coverage (§ 387.7(a)).
7. Using a disqualified driver (§ 391.15(a)).
8. Using a physically unqualified driver (§ 391.11(b)(4)).
9. Failing to require a driver to make a record of duty status (§ 395.8(a)) (Complete lack of any records of duty status).
10. Requiring or permitting the operation of a motor vehicle declared “out-of-service” before repairs are made (§ 396.9(c)(2)).
11. Using a commercial motor vehicle not periodically inspected (§ 396.17(a)). (Complete lack of any periodic inspections).
12. Operating a passenger carrying vehicle without having in effect the required minimum levels of financial responsibility (§ 387.31(a)).
13. Failing to implement a random controlled substances and/or an alcohol testing program (§ 382.305).
14. Failing to correct out-of-service defects listed by a driver in a driver vehicle inspection report before the vehicle is operated again (§ 396.11(c)).
15. Transporting a forbidden material (§ 177.801).

Issued on: September 10, 2008.
John H. Hill,
Administrator.

[FR Doc. E8-21561 Filed 9-15-08; 8:45 am]

BILLING CODE 4910-EX-P